DEPARTMENT OF TRANSPORTATION

Federal Aviation Administration

Advisory Circular 35.37-1A, Guidance Material for Fatigue Limit Tests and Composite Blade Fatigue Substantiation

AGENCY: Federal Aviation Administration (FAA), DOT.

ACTION: Notice of issuance of advisory circular.

SUMMARY: This notice announces the issuance of Advisory Circular (AC) 35.37-1A. Guidance Material for Fatigue Limit Tests and Composite Blade Fatigue Substantiation. This advisory circular (AC) provides guidance and describes methods, but not the only methods, for demonstrating compliance with § 35.37 of Title 14 of the Code of Federal Regulations, Fatigue limit tests. This AC also provides methods for the fatigue evaluation of propellers and the fatigue substantiation of composite propeller blades. Lake all AC material, this AC is not, in itself, mandatory and does not constitute a regulation. While these guidelines are not mandatory, they are derived from extensive Federal Aviation Administration (FAA) and industry experience in determining compliance with the applicable regulations.

DATES: Advisory Circular 35.37-1A was issued by the Manager, Engine and Propeller Directorate, Aircraft Certification Office, ANE-100, on September 17, 2001.

How to Obtain Copies: A paper copy of AC 37.37-1A may be obtained by writing to the U.S. Department of Transportation, Subsequent Distribution Office, DOT Warehouse, SVC-121.23, Ardmore East Business Center, 3341Q 75th Ave., Landover, MD 20785, telephone 301-322-5377, or by faxing your request to the warehouse at 301-386-5394. The AC will also be available on the Internet at http://www.faa.gov/avr/air/airhome.htm, at the link titled “Advisory Circulars” under the “Available Information” down-drop menu.

Issued in Burlington, Massachusetts on October 23, 2001.
Thomas Boudreau,
Acting Manager, Engine and Propeller Directorate, Aircraft Certification Service.

[FR Doc. 01-28376 Filed 11-9-01; 8:45 am]

BILLING CODE 4910-13-M